DEPARTMENT OF ENERGY

Federal Energy Regulatory Commission

[Project No. 1889-085; Project No. 2485-071]

Notice of Settlement Agreement and Soliciting Comments; FirstLight MA Hydro LLC; Northfield Mountain LLC

Take notice that the following settlement agreement has been filed with the Commission and is available for public inspection.

a. Type of Application: Settlement Agreement.

b. Project Nos.: 1889-085 and 2485-071.

c. Date Filed: March 31, 2023.

d. Applicant: FirstLight MA Hydro LLC and Northfield Mountain LLC (collectively FirstLight).

e. Name of Projects: Turners Falls Hydroelectric Project and Northfield Mountain Pumped Storage Project (collectively, projects).

f. Location: The existing projects are located on the Connecticut River in the counties of Windham, Vermont; Cheshire, New Hampshire; and Franklin, Massachusetts. There are approximately 20 acres of federal land within the current Turners Falls Project boundary, associated with the U.S. Geological Survey's Silvio Conte Anadromous Fish Laboratory. There are no federal lands within the Northfield Mountain Project boundary.

g. Filed Pursuant to: Rule 602 of the Commission's Rules of Practice and Procedure, 18 CFR 385.602.

h. Applicant Contact: Alan Douglass, Regulatory Compliance Manager, FirstLight MA Hydro LLC and Northfield Mountain LLC, 99 Millers Falls Road, Northfield, MA 01360; (413) 659-4416 or alan.douglass@firstlightpower.com.

i. FERC Contact: Steve Kartalia, (202) 502-6131, stephen.kartalia@ferc.gov.

j. Deadline for filing comments: May 7, 2023. Reply comments due May 22, 2023.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-1889-085 and P-2485-071.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. FirstLight filed the Settlement Agreement for the projects' relicense proceedings, on behalf of itself, the National Marine Fisheries Service, U.S. Fish and Wildlife Service, Massachusetts Division of Fisheries and Wildlife, Nature Conservancy, American Whitewater, Appalachian Mountain Club, Crabapple Whitewater, Inc., New England FLOW, and Zoar Outdoor. The purpose of the Settlement Agreement is to resolve, among the signatories, relicensing issues related to fish passage, flows for the fishery, ecological conservation, recreation, and protected, threatened, and endangered species. The Settlement Agreement includes proposed license articles that reflect agreement among the parties concerning the recommendations, terms, conditions, and fishway prescriptions to be submitted to the Commission pursuant to sections 10(a), 10(j), and 18 of the Federal Power regarding these topics. FirstLight requests, and the Settlement Agreement includes a proposed term of 50 years for any new licenses issued for the projects. FirstLight requests that the Commission accept and incorporate all of the proposed license articles in any new licenses for the projects, and issue new licenses for terms of 50 years.

l. A copy of the Settlement Agreement may be viewed on the Commission's website at http://www.ferc.gov using the “eLibrary” link. Enter the docket number, excluding the last three digits, in the docket number field to access the document (i.e., P-1889 and P-2485). At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

Dated: April 7, 2023.
Kimberly D. Bose,
Secretary.

[FR Doc. 2023-07806 Filed 4-12-23; 8:45 am]

BILLING CODE 6717-01-P